DEPARTMENT OF STATE

[Public Notice 5961]

Department of State Performance Review Board Members (for Non-career Senior Executive Employees)

In accordance with section 4314(c)(4) of the Civil Service Reform Act of 1978 (Pub. L. 95-454), the Executive Resources Board of the Department of State has appointed the following individuals to the Department of State Performance Review Board (for Non-career Senior Executive Employees):

Carrie B. Cabelka, Under Secretary for Management, White House Liaison, Department of State;

Brian F. Gunderson, Chief of Staff, Office of the Secretary, Department of State.

Dated: October 9, 2007.
Harry K. Thomas,
Director General of the Foreign Service and Director of Human Resources, Department of State.

[FR Doc. E7-20643 Filed 10-18-07; 8:45 am]

BILLING CODE 4710-15-P